DEPARTMENT OF COMMERCE

International Trade Administration

[A-580-883]

Certain Hot-Rolled Steel Flat Products From the Republic of Korea; 2017-2018; Rescission of the Antidumping Duty Administrative Review in Part

AGENCY: Enforcement and Compliance, International Trade Administration, Department of Commerce.

SUMMARY: The Department of Commerce (Commerce) is rescinding the administrative review, in part, of the antidumping duty order on certain hot-rolled steel flat products (hot-rolled steel) from the Republic of Korea (Korea) for the period October 1, 2017, through September 30, 2018.

DATES: Applicable April 29, 2019.

FOR FURTHER INFORMATION CONTACT: Kabir Archuletta or Genevieve Coen, AD/CVD Operations, Office V, Enforcement and Compliance, International Trade Administration, U.S. Department of Commerce, 1401 Constitution Avenue NW, Washington, DC 20230; telephone: (202) 482-2593 or (202) 482-3251, respectively.

SUPPLEMENTARY INFORMATION:

Background

On October 1, 2018, Commerce published a notice of opportunity to request an administrative review of the antidumping duty order on hot-rolled steel from Korea.¹ Pursuant to requests from interested parties, Commerce initiated an administrative review with respect to eight companies for the period October 1, 2017, through September 30, 2018.² Commerce exercised its discretion to toll all deadlines affected by the partial federal government closure from December 22, 2018, through the resumption of operations on January 29, 2019.³ If the new deadline falls on a non-business day, in accordance with Commerce's practice, the deadline will become the next business day. The tolled deadline for a party to withdraw a request for review was April 22, 2019.⁴

¹ See Antidumping or Countervailing Duty Order, Finding, or Suspended Investigation; Opportunity to Request Administrative Review, 83 FR 49358 (October 1, 2018).

² See Initiation of Antidumping and Countervailing Duty Administrative Reviews, 83 FR 63615 (December 11, 2018) (Initiation).

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁴ Id.

Withdrawal of Review Request

The petitioners timely withdrew their request for an administrative review of five companies: Dongbu Steel Co., Ltd.; Dongkuk Industries Co., Ltd.; Marubeni-Itochu Steel Korea; Soon Hong Trading Co.; and Sungjin Co.⁵ No other party requested review of these companies.

⁵ See Petitioners' Letter, “Petitioners' Partial Withdrawal of Administrative Review Request,” dated April 19, 2019.

Partial Rescission of Administrative Review

Pursuant to 19 CFR 351.213(d)(1), Commerce will rescind an administrative review, in whole or in part, if the party that requested a review withdraws its request within 90 days of the date of publication of the notice of initiation. Only the petitioners requested review of these five companies. As such, all review requests have been withdrawn for these companies, as detailed above. Therefore, Commerce is rescinding this review with respect to those five companies, in accordance with 19 CFR 351.213(d)(1). The review will continue with respect to the other companies for which a review was requested and initiated: Hyundai Steel Company, POSCO, and POSCO Daewoo Corporation.⁶

⁶ See Initiation at 63617.

Assessment

Commerce will instruct U.S. Customs and Border Protection (CBP) to assess antidumping duties on all appropriate entries. For the companies for which this review is rescinded, antidumping duties shall be assessed at rates equal to the cash deposit of estimated antidumping duties required at the time of entry, or withdrawal from warehouse for consumption, in accordance with 19 CFR 351.212(c)(l)(i). Commerce intends to issue appropriate assessment instruction to CBP 15 days after publication of this notice.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction. This notice is issued and published in accordance with sections 751 and 777(i)(l) of the Tariff Act of 1930, as amended, and 19 CFR 351.213(d)(4).

Dated: April 23, 2019.
James Maeder,
Associate Deputy Assistant Secretary for Antidumping and Countervailing Duty Operations performing the duties of Deputy Assistant Secretary for Antidumping and Countervailing Duty Operations.

[FR Doc. 2019-08575 Filed 4-26-19; 8:45 am]

BILLING CODE 3510-DS-P